NATIONAL SCIENCE FOUNDATION

Advisory Committee for Computer and Information Science and Engineering; Notice of Meeting

In accordance with the Federal Advisory Committee Act (Pub. L. 92-463, as amended), the National Science Foundation (NSF) announces the following meeting:

Name and Committee Code: Advisory Committee for Computer and Information Science and Engineering (CISE) (1115) (Virtual Meeting).

Date and Time: June 4, 2020; 11:00 a.m. to 5:00 p.m.

Place: NSF, 2415 Eisenhower Avenue, Alexandria, VA 22314 (Virtual attendance only). To attend the virtual meeting, please send your request for the virtual meeting link to the following email address: cmessam@nsf.gov.

Type of Meeting: Open.

Contact Person: KaJuana Mayberry, National Science Foundation, 2415 Eisenhower Avenue, Alexandria, VA 22314; Telephone: 703-292-8900; Email: kmayberr@nsf.gov.

Purpose of Meeting: To advise NSF on the impact of its policies, programs and activities in support of CISE research, education, and research infrastructure. To provide advice to the NSF Assistant Director for CISE on issues related to long-range planning, and to form ad hoc subcommittees and working groups to carry out needed studies and tasks.

Agenda:

• NSF and CISE updates

• Discussion on the impacts of the novel coronavirus disease 2019 (COVID-19) on NSF and the broader research community

• Discussion on a recent roundtable between the CISE and social, behavioral, and economic sciences

Dated: April 28, 2020.
Crystal Robinson,
Committee Management Officer.

[FR Doc. 2020-09333 Filed 4-30-20; 8:45 am]

BILLING CODE 7555-01-P